FEDERAL MARITIME COMMISSION

[Docket No. 22-23]

Marine Transport Logistics, Inc., Complainant v. CMA-CGM (America), LLC, and CMA-CGM S.A Respondents; Notice of Filing of Complaint and Assignment

Served: December 9, 2022.

Notice is given that a Verified Amended Complaint has been filed with the Federal Maritime Commission (Commission) by Marine Transport Logistics, Inc., hereinafter “Complainant,” against CMA-CGM (America), Inc. and CMA-CGM S.A., hereinafter “Respondents.” Complainant states that it is a non-vessel-operating common carrier organized under the laws of the State of New York. Complainant identifies CMA-CGM S.A. as a vessel-operating common carrier (VOCC) based in France, and CMA-CGM (America) LLC as the VOCC's agent in the United States with offices in New Jersey and Virginia.

Complainant alleges that Respondents violated 46 U.S.C. 41102(c) in its practices regarding the shipment of Complainant's container cargo and the charges incurred as a result. The full text of the complaint can be found in the Commission's Electronic Reading Room at https://www2.fmc.gov/readingroom/proceeding/22-23/.

This proceeding has been assigned to Office of Administrative Law Judges. The initial decision of the presiding officer in this proceeding shall be issued by September 7, 2023, and the final decision of the Commission shall be issued by March 21, 2024.

William Cody,
Secretary.

[FR Doc. 2022-27160 Filed 12-14-22; 8:45 am]

BILLING CODE 6730-02-P